DEPARTMENT OF TRANSPORTATION

Federal Aviation Administration

Fourteenth Meeting: RTCA Special Committee 203/Minimum Performance Standards for Unmanned Aircraft Systems and Unmanned Aircraft

AGENCY: Federal Aviation Administration (FAA), DOT.

ACTION: Notice of RTCA Special Committee 203, Minimum Performance Standards for Unmanned Aircraft Systems and Unmanned Aircraft.

SUMMARY: The FAA is issuing this notice to advise the public of a meeting of RTCA Special Committee 203, Minimum Performance Standards for Unmanned Aircraft Systems and Unmanned Aircraft.

DATES: The meeting will be held April 28-30, 2009 from 9-5 p.m..

ADDRESSES: The meeting will be held at RTCA, Inc., 1828 L Street, NW., Suite 805, Washington, DC 20036. Point of Contact: RTCA Secretariat, PoC: Rudy Ruana, Telephone: 202-833-9339, E-mail: rruana@rtca.org.

Note: Dress is Business Casual.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a Special Committee 203 meeting. The agenda will include:

April 28

• Opening Plenary Session (Introductory Remarks and Introductions)

• Approval of Thirteenth Plenary Summary

• Plenary Presentations:

• Leadership Updates

• Work Plan Status

• Overview of Product Team Breakout Sessions

• Plenary Adjourns

• Requirements Product Team Status Review

April 29

• Product Team Breakout Sessions

• Requirements/Architecture Product Team

• Operational Services and Environmental Definition (OSED) Product Team

• Control & Communications (C&C) Product Team

• Sense & Avoid (S&A) Product Team

April 30

• Product Team Breakout Sessions

• Requirements/Architecture Product Team

• OSED Product Team

• C&C Product Team

• S&A Product Team

• Plenary Reconvenes

• Product Team Back Briefs

• Closing Plenary Session (Other Business, Date, Place, and Time for Plenary, Adjourns)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 17, 2009.
Francisco Estrada C.,
RTCA Advisory Committee.

[FR Doc. E9-6456 Filed 3-23-09; 8:45 am]

BILLING CODE 4910-13-P